DEPARTMENT OF AGRICULTURE

Forest Service

Monongahela National Forest, West Virginia; Big Rock Project

AGENCY: Forest Service, USDA.

ACTION: Withdrawal of notice of intent to prepare environmental impact statement.

SUMMARY: The Monongahela National Forest is withdrawing the Notice of Intent (NOI) to prepare an Environmental Impact Statement for the Big Rock Project. The original NOI was published in the Federal Register on July 30, 2014. The environmental analysis for this project is proceeding under an Environmental Assessment.

FOR FURTHER INFORMATION CONTACT: Questions concerning withdrawal of the NOI should be addressed to Karen Stevens (Forest Planner) at the following address: Monongahela National Forest, 200 Sycamore Street, Elkins, West Virginia 26241, or via phone at: 304-635-4480.

Individuals who use telecommunication devices for the deaf (TDD) may call the Federal Information Relay Service (FIRS) at 1-800-877-8339 between 8 a.m. and 8 p.m., Eastern Time, Monday through Friday.

Further information about the project can be found at https://www.fs.usda.gov/project/?project=44762.

Dated: October 5, 2018.
Allen Rowley,
Acting Associate Deputy Chief, National Forest System.

[FR Doc. 2018-23087 Filed 10-22-18; 8:45 am]

BILLING CODE 3411-15-P